ENVIRONMENTAL PROTECTION AGENCY

40 CFR Part 63

[EPA-HQ-OAR-2002-0083; FRL-5919.4-04-OAR]

National Emission Standards for Hazardous Air Pollutants: Integrated Iron and Steel Manufacturing Facilities Technology Review

AGENCY: Environmental Protection Agency (EPA).

ACTION: Final rule.

SUMMARY: The U.S. Environmental Protection Agency (EPA or Agency) is taking final action to respond to comments on an interim final rule (IFR) related to the National Emission Standards for Hazardous Air Pollutants (NESHAP) for Integrated Iron and Steel Manufacturing Facilities (“II&S NESHAP”). Specifically, the EPA is responding to comments on the IFR published in the Federal Register on July 3, 2025, that revised compliance deadlines for certain provisions related to planned bleeder valve openings, unplanned bleeder valve openings, blast furnace (BF) casthouses, basic oxygen process furnace (BOPF) shops, slag processing and handling, beaching, and fenceline monitoring. After carefully considering the comments, the EPA concludes that the amendments made in the IFR are warranted and is not making any further changes to the compliance deadlines revised in the IFR.

DATES: This final rule is effective on December 3, 2025.

ADDRESSES: The EPA has established a docket for this action under Docket ID No. EPA-HQ-OAR-2002-0083. All documents in the docket are available on the https://www.regulations.gov website. Although listed, some information is not publicly available, e.g., Confidential Business Information (CBI) or other information whose disclosure is restricted by statute. The EPA does not place certain other material, such as copyrighted material, on the internet; this material is publicly available only as pdf versions and accessible only on EPA computers in the docket office reading room. The public cannot download certain data bases and physical items from the docket but may request these items by contacting the docket office at (202) 566-1744. The docket office has 10 business days to respond to such requests. Except for such material, publicly available docket materials are available electronically in https://www.regulations.gov or on the EPA computers in the docket office reading room at the EPA Docket Center, WJC West Building, Room Number 3334, 1301 Constitution Ave. NW, Washington, DC. The Public Reading Room hours of operation are 8:30 a.m. to 4:30 p.m. Eastern Time (ET), Monday through Friday. The telephone number for the Public Reading Room is (202) 566-1744, and the telephone number for the EPA Docket Center is (202) 566-1742.

FOR FURTHER INFORMATION CONTACT: For information about this action, contact U.S. EPA, Attn: Katie Boaggio, Mail Drop: D243-02, 109 T.W. Alexander Drive, P.O. Box 12055, Research Triangle Park, North Carolina 27711; telephone number: (919) 541-2223; email address: boaggio.katie@epa.gov.

SUPPLEMENTARY INFORMATION:

Preamble acronyms and abbreviations. Throughout this document the use of “we,” “us,” or “our” refers to the EPA. We use multiple acronyms and terms in this preamble. While this list may not be exhaustive, to ease the reading of this preamble and for reference purposes, the EPA defines the following terms and acronyms here:

BF blast furnace

BOPF basic oxygen process furnace

CAA Clean Air Act

CBI Confidential Business Information

CRA Congressional Review Act

CFR Code of Federal Regulations

EPA Environmental Protection Agency

FR Federal Register

II&S Integrated Iron and Steel

IFR interim final rule

NESHAP National Emission Standards for Hazardous Air Pollutants

NAICS North American Industry Classification System

OMB Office of Management and Budget

UFIP unmeasured fugitive and intermittent particulate

U.S.C. United States Code

UMRA Unfunded Mandates Reform Act of 1995

Table of Contents

I. General Information

A. Does this action apply to me?

B. Where can I get a copy of this document and other related information?

C. What is the statutory authority for this final action?

D. Judicial Review and Administrative Review

II. Background

III. What amendments did we make in the IFR, and what are our final conclusions?

A. Planned Bleeder Valve Openings

B. Bell Leaks

C. Monitoring Frequency for BOPF/BF

D. Unplanned Bleeder Valve Openings

E. Slag Processing, Handling, and Storage

F. Beaching

G. Fenceline Monitoring

IV. Statutory and Executive Order Reviews

A. Executive Order 12866: Regulatory Planning and Review and Executive Order 13563: Improving Regulation and Regulatory Review

B. Executive Order 14192: Unleashing Prosperity Through Deregulation

C. Paperwork Reduction Act (PRA)

D. Regulatory Flexibility Act (RFA)

E. Unfunded Mandates Reform Act of 1995 (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA)

K. Congressional Review Act (CRA)

I. General Information

A. Does this action apply to me?

The source category that is the subject of this action is Integrated Iron and Steel Manufacturing Facilities regulated under 40 CFR part 63, subpart FFFFF.

Table 1 summarizes the 2022 North American Industry Classification System (NAICS) codes for the source category.

Table 1—NESHAP and Industrial Source Categories Affected by This Final Action
NESHAP and source category | NAICS code
40 CFR part 63, subpart FFFFF, Integrated Iron and Steel Manufacturing Facilities | 331110

The EPA does not intend table 1 of this preamble to be exhaustive. The NAICS code outlines the type of entities this final action likely will affect. To determine whether this NESHAP affects your facility, you should examine the applicability criteria in the NESHAP. If you have any questions regarding the applicability of any aspect of this NESHAP, please contact the person listed in the preceding FOR FURTHER INFORMATION CONTACT section of this preamble.

B. Where can I get a copy of this document and other related information?

In addition to being available in the docket, an electronic copy of this action is available on the internet at https://www.epa.gov/stationary-sources-air-pollution/integrated-iron-and-steel-manufacturing-national-emission. Following publication in the Federal Register, the EPA will post the Federal Register version of this action at this same website. In accordance with 5 U.S. Code (U.S.C.) 553(b)(4), a summary of this action may be found at https://www.regulations.gov, Docket ID No. EPA-HQ-OAR-2002-0083. Following publication in the Federal Register, the EPA will post the Federal Register version of this action at this same website.

C. What is the statutory authority for this final action?

The same Clean Air Act (CAA) provision that provided authority to issue the regulations that are the subject of this final rule and the July 3, 2025, IFR—CAA section 112—provides the statutory authority to issue this final action.

D. Judicial Review and Administrative Review

Under CAA section 307(b)(1), judicial review of this final action is available only by filing a petition for review in the United States Court of Appeals for the District of Columbia Circuit by February 2, 2026. Under CAA section 307(b)(2), a party cannot challenge the requirements established by this final action separately in any civil or criminal proceedings to enforce the requirements.

CAA section 307(d) applies to this final rule.¹ CAA section 307(d)(7)(B) provides a mechanism for the EPA to convene a proceeding for reconsideration “[i]f the person raising an objection can demonstrate to the EPA that it was impracticable to raise such objection within [the period for public comment] or if the grounds for such objection arose after the period for public comment (but within the time specified for judicial review) and if such objection is of central relevance to the outcome of the rule.” Any person seeking to make such a demonstration should submit a Petition for Reconsideration to the Office of the Administrator, U.S. Environmental Protection Agency, Room 3000, WJC South Building, 1200 Pennsylvania Ave. NW, Washington, DC 20460, with a copy to both the person listed in the preceding FOR FURTHER INFORMATION CONTACT section and the Associate General Counsel for the Air and Radiation Law Office, Office of General Counsel (Mail Code 2344A), U.S. Environmental Protection Agency, 1200 Pennsylvania Ave. NW, Washington, DC 20460.

¹ See 42 U.S.C. 7607(d)(1)(C). The EPA issued the July 3, 2025 IFR pursuant to CAA section 307(d)(1), which authorizes the issuance of a rule without prior notice and comment “in the case of any rule or circumstance referred to in subparagraphs (A) or (B) of [APA section 553(b)].” Id. 7607(d)(1); see 90 FR 29489 n.6 We solicited post-promulgation comment on the revised compliance deadlines in the IFR. Id. We also granted a request for a public hearing and held that virtual public hearing on September 3, 2025, which provided an opportunity to offer oral comments on the revisions in the IFR and extended the deadline for public comments until October 3, 2025. 90 FR 39333 (Aug. 15, 2025); 90 FR 40975 (Aug. 22, 2025). This final action falls under the actions specified in CAA section 307(d)(1)(C) and is therefore subject to CAA section 307(d). For a full explanation of how the EPA effectively met all requirements of CAA section 307(d), see Summary of Public Comments and Responses for the Integrated Iron and Steel Interim Final Rule in the docket for this final action.

II. Background

In this section, the EPA summarizes relevant history to provide context for this final action. For further discussion of regulatory history for this source category and issues arising after promulgation of the most recent substantive amendments to the NESHAP, please see section II.A. and II.B. of the preamble for the July 3, 2025 IFR.²

² 90 FR at 29487-88.

The EPA initially set maximum achievable control technology (MACT) standards for the II&S Manufacturing Facilities source category in May 2003.³ In July 2020, pursuant to CAA sections 112(d)(6) and 112(f)(2),⁴ the EPA issued a residual risk and technology review of the II&S NESHAP, codified at 40 CFR part 63, subpart FFFFF, that finalized amendments to the NESHAP.⁵ In the risk review, the EPA determined that risks due to emissions of hazardous air pollutants, also known as toxic air pollutants or air toxics, from this source category were acceptable and concluded that the finalized standards provided “an ample margin of safety to protect public health.” ⁶

³ 68 FR 27646 (May 20, 2003).

⁴ 42 U.S.C. 7412(d)(6), (f)(2).

⁵ 85 FR 42074 (July 13, 2020).

⁶ Id.

In 2024, the EPA completed a second technology review for this source category under a court-ordered deadline (“2024 rule”).⁷ The 2024 rule revised existing emission standards for certain air toxics, set standards for previously unregulated sources of air toxics pursuant to our interpretation of the D.C. Circuit's decision in Louisiana Environmental Action Network v. EPA, 955 F.3d 1088 (D.C. Cir. 2020), and required fenceline monitoring for the II&S source category.⁸ The EPA set compliance deadlines for each standard for one, two, or three years after the 2024 rule's promulgation date based on information then available to the Agency regarding the regulated entities' ability to expeditiously comply with the standards.⁹

⁷ 89 FR 23294 (Apr. 3, 2024).

⁸ Id. at 23295, 23307.

⁹ Id. at 23314 & table 5.

Following the issuance of the 2024 rule, the EPA was notified by industry parties that there were several errors in the final regulatory text and certain items that the EPA had not properly raised for comment during the proposal. The EPA also received a number of administrative petitions for reconsideration, including from regulated entities and public interest groups.¹⁰ The regulated entities' petitions raised compliance challenges with several standards in the 2024 rule and emphasized the importance of feasible standards for reliable iron and steel production to support national infrastructure and national security needs, particularly for applications in the defense industry, homeland security, and critical infrastructure.¹¹ The regulated entities also identified safety concerns with attempting to comply with the 2024 rule.¹²

¹⁰ Docket ID Nos. EPA-HQ-OAR-2002-0083-1988, EPA-HQ-OAR-2002-0083-1989, and EPA-HQ-OAR-2002-0083-1990.

¹¹ See, e.g., Cleveland Cliffs Petition for Reconsideration and Stay of the Integrated Iron and Steel NESHAP, Docket ID No. EPA-HQ-OAR-2002-0083-1989, pages 3, 18-40.

¹² Docket ID No. EPA-HQ-OAR-2002-0083-1989, pages 3, 18-40.

In August 2024, the EPA granted discretionary reconsideration of three standards: work practice standards for unmeasured fugitive and intermittent particulate (UFIP) from unplanned bleeder valve openings, work practice standards for UFIP from beaching, and a Maximum Achievable Control Technology (MACT) emission limit for hydrochloric acid point-source emissions from BF casthouses. The letter also stated the EPA's intent to issue a correction notice to do the following:

1. Clarify that the definition of an “unplanned bleeder valve opening” includes only those openings that are not located downstream from a control device (i.e., “dirty bleeder valve openings”);

2. Clarify the timing of planned openings and how they may affect opacity readings;

3. Clarify the definition of a “single bleeder valve opening event;”

4. Delete from 40 CFR part 63, subpart FFFFF, table 2 the emission standard for “windbox exhaust stream” for BF casthouses, BF stoves, and BOPF shops because these sources do not have a windbox exhaust stream; and

5. Clarify the method that must be used to measure opacity for bell leaks.¹³

¹³ Response Letter to Petitions Granting Reconsideration of Integrated Iron and Steel NESHAP, Docket ID No. EPA-HQ-OAR-2002-0083-1991.

Additionally, “[g]iven the large amount of complex data involved,” the EPA committed to continue reviewing the petitions to determine whether the Agency should reconsider other issues.¹⁴

¹⁴ Id.

In conducting this review, and pursuant to further conversations between EPA staff and regulated entities, the EPA determined in March 2025 that four standards—work practice standards for UFIP from unplanned bleeder valve openings, opacity limits for planned bleeder valve openings, work practice standards for bell leaks, and opacity limit for slag processing and handling—warranted mandatory reconsideration under CAA section 307(d)(7)(B).¹⁵ Considering the need for additional time for mandatory reconsideration, the EPA administratively stayed the rule's April 3, 2025 compliance deadlines until July 1, 2025.¹⁶

¹⁵ Letter Identifying Additional Items for Reconsideration in Integrated Iron and Steel NESHAP, Docket ID No. EPA-HQ-OAR-2002-0083-1992.

¹⁶ 90 FR 14207, 14208 (Mar. 31, 2025); see 42 U.S.C. 7607(d)(7)(B).

Upon further evaluation of the reconsideration issues, the parties' petitions for reconsideration, and discussions with stakeholders, the EPA determined that affected sources could not timely implement the standards in the 2024 rule with April 3, 2025 and April 3, 2026 compliance deadlines and that a correction notice could not sufficiently address these challenges. For further discussion of these compliance challenges, see section II.C. of the preamble to the July 3, 2025 IFR.¹⁷ Recognizing that the EPA would be unable to remedy those problems through standard rulemaking procedures before the compliance deadlines and that the infeasible standards raised safety and national security concerns,¹⁸ the EPA promulgated the IFR in July 2025, which revised the compliance deadlines for these standards to April 3, 2027 and set a corresponding compliance deadline for fenceline monitoring. For further discussion of the deadline revisions, see section II.D. and III. of the preamble to the July 3, 2025 IFR.¹⁹

¹⁷ 90 FR at 29488.

¹⁸ Regulated entities have emphasized the strategic importance of iron and steel on “national security, particularly for applications in the defense industry, homeland security, and critical infrastructure” and the need for revised standards to operate in a way that “protect[s] the safety of employees, the community and property.” See Cleveland Cliffs Petition for Reconsideration and Stay of the Integrated Iron and Steel NESHAP, Document ID No. EPA-HQ-OAR-2002-0083-1989, pages 3, 18-43.

¹⁹ 90 FR at 29489.

Each conclusion and confirmation of the relative changes in the IFR included in this final action is severable from the others. As noted in the rule that established the standards at issue here and in the IFR, each set of standards rests on stand-alone scientific determinations that do not rely on judgments regarding other portions of the rule, and each set of standards can be implemented independently.²⁰ The same logic applies to the corresponding compliance deadlines. First, the reasoning for each regulatory revision is distinct and independent from the others. As noted in the IFR, the compliance deadlines were revised for each standard based on the unique compliance challenges presented in practice by each standard.²¹ Second, each of the deadlines revised in the IFR is functionally independent from the others, i.e., may operate in practice independently of the other requirements being revised, such that the revision of a deadline in one set of requirements does not turn on the revision of a deadline in any other set of requirements, aside from fenceline monitoring.²²

²⁰ 89 FR at 23314.

²¹ 90 FR at 29488.

²² The EPA promulgated fenceline monitoring to promote compliance with the other requirements of the NESHAP. See 90 FR at 29487; see also 89 FR at 23307. The EPA also has yet to promulgate a method to conduct fenceline monitoring, and the standard requires regulated parties to use the EPA's approved method.

The EPA issued the IFR addressing the II&S NESHAP compliance dates on July 3, 2025. We received comments from industry, environmental groups, public health groups, community groups, and others during the comment period. The EPA also granted a request for a public hearing and held that virtual public hearing on September 3, 2025, which provided an opportunity to offer oral comments on the revisions in the IFR and extended the deadline for public comments until October 3, 2025.²³ A summary of all public comments on the IFR and the EPA's responses to those comments is in the rulemaking docket.

²³ See 90 FR 39333; 90 FR 40975.

III. What amendments did we make in the IFR, and what are our final conclusions?

The 2024 rule included several provisions that subsequent developments have shown to be untenable from a compliance perspective on the timeframes set out in the 2024 rule. The EPA did not anticipate or intend these timing issues to result from the 2024 rule, and it is in the public interest and consistent with the purposes of the CAA to provide regulated entities sufficient time to comply with the requirements in the 2024 rule. Based on information received in petitions for reconsideration, other information discussed in the IFR, and after considering public comments on the IFR, the EPA reaffirms in this final action that the targeted revisions to compliance deadlines set forth in the IFR and summarized below are necessary, appropriate, and consistent with the purposes of the 2024 rule and the CAA.

After reviewing the comments received, the EPA is reaffirming in this final rule its decision to revise the compliance deadlines for standards established in the 2024 rule for opacity limits for planned bleeder valve openings; work practice standards for bell leaks; opacity monitoring frequency for BFs; work practice standards and operational limits for unplanned bleeder valve openings; work practices for beaching; opacity limits for slag processing activities; and fenceline monitoring to April 3, 2027.²⁴

²⁴ 90 FR at 29488-89.

Because there are no changes between the IFR and final rule, the incremental impacts between the two rules is zero. Given the comments provided on the IFR, the EPA provided a memorandum titled “A Note on the Impact Analysis for the Interim Final Rule” that is available in the docket for this action.²⁵

²⁵ Docket ID No. EPA-HQ-OAR-2002-0083.

The EPA received 28 sets of written comments and held a public hearing during the comment period. In the Summary of Public Comments and Responses for the Integrated Iron and Steel Interim Final Rule document, the comments were organized into three categories: compliance as expeditiously as practicable; cost, health, and community impacts from extending the compliance deadlines; and rulemaking procedures.

Commenters who supported the justification for the revision of the compliance deadlines provided additional rationale for why the EPA correctly determined that the revised deadlines provide for compliance as expeditiously as possible. Other commenters opposed the revision of the original compliance deadlines in the 2024 rule, asserting that the EPA failed to establish deadlines that provide for compliance as expeditiously as possible and had not identified anything in the reconsideration petitions or the accompanying post-comment period data that undermines its prior conclusions. The EPA disagrees with these commenters and explains our evolved understanding of the standards in this preamble and in the accompany response to comments. Comments on the justification for the revision of the compliance deadlines and rationale for it being as expeditiously as possible are summarized for each individual standard in the following sections. Commenters opposing the deadline revisions did not provide data or information justifying their assertions to undermine the EPA's findings in this action that the revised compliance deadlines are appropriate for each standard. Instead, those commentors relied on the EPA's prior findings in reaching prior conclusions. Therefore, the EPA's responses also serve to address those assertions by explaining the EPA's evolved understanding of the compliance challenges presented by the standards as originally written. For more comments and responses on compliance as expeditiously as possible, please see the Summary of Public Comments and Responses for the Integrated Iron and Steel Interim Final Rule in the docket for this action.

Additionally, these commenters also expressed concerns about potential health impacts from exposure to the 120 tons per year of HAP emissions that the 2024 rule estimated would be reduced by implementing the standards for which the IFR revised compliance deadlines. The EPA recognizes that air pollutants emitted at II&S facilities can potentially carry health risks but refers commenters to the residual risk review the EPA finalized in 2020, which concluded that existing NESHAP for this source category provided an ample margin of safety to protect human health or an adverse environmental impact.²⁶ For more comments and responses regarding the potential health impacts, please see the Summary of Public Comments and Responses for the Integrated Iron and Steel Interim Final Rule in the docket for this action.

²⁶ 85 FR 42074 (July 13, 2020).

Finally, some commenters asserted that the EPA did not follow the procedural requirements in CAA section 307(d) in promulgating the IFR. The EPA disagrees with commenters' claims that the IFR violated CAA section 307(d). The IFR qualified for the Administrative Procedure Act's (APA's) good cause exception for the reasons explained in the IFR.²⁷ For more comments and responses regarding the procedural requirements, please see the Summary of Public Comments and Responses for the Integrated Iron and Steel Interim Final Rule in the docket for this action.

²⁷ 90 FR 29489 (July 3, 2025).

In this section, we summarize comments specific to particular deadlines and conclusions that the deadline revisions in the IFR were appropriate, necessary, and consistent with the text and objectives of the CAA. For a full discussion of comments and responses, please see Summary of Public Comments and Responses for the Integrated Iron and Steel Interim Final Rule in the docket for this action.

A. Planned Bleeder Valve Openings

In the July 3, 2025 IFR, the EPA revised the compliance deadline for planned bleeder valve openings from April 3, 2025, to April 3, 2027. When promulgating the opacity standard for planned bleeder valve openings, we originally concluded based on information available at the time that affected sources could meet this standard without the need for installation of new control equipment, monitors, or measurement equipment. Therefore, we provided only one year to comply.²⁸ However, after the promulgation of the 2024 rule, regulated entities provided information, including monitoring data, in petitions for administrative reconsideration to the EPA indicating that facilities would likely be unable to comply with the standards as written by the April 3, 2025 deadline without clarifications, corrections, or revisions. These data demonstrated that it likely will be infeasible for most sources to comply with the 2024 rule's opacity limits for planned bleeder valve openings.

²⁸ 89 FR at 23314; Docket ID No. EPA-HQ-OAR-2002-0083-1976, pages 194-200.

We received comments supporting the revised compliance deadlines for planned bleeder valve openings stating that the EPA incorrectly assumed in the 2024 rule that “standards could be met without the need for installation of new control equipment, monitor, or measurement equipment.” ²⁹ Commenters further stated that the EPA did not fully understand the planned bleeder valve openings subject to the opacity limit in the 2024 rule, the blast furnace operations that impact the timing and duration of planned bleeder valve openings, and the effect of certain work practices on planned bleeder valve opening opacity. For the reasons discussed in the IFR, and after considering the public comments on those compliance deadline revisions, we reaffirm that the changes to compliance deadlines for planned openings in the IFR are warranted, and we conclude that these provisions need no additional changes.

²⁹ 90 FR at 29488.

B. Bell Leaks

In the July 3, 2025 IFR, the EPA revised the compliance deadline for work practice standards for bell leaks from April 3, 2025, to April 3, 2027. When promulgating the work practice standards for bell leaks, we originally concluded that affected sources could meet those standards without the need for installation of new control equipment, monitors, or measurement equipment. Therefore, we provided only one year to comply.³⁰ However, after promulgation of the 2024 rule, regulated entities provided information in petitions for administrative reconsideration to the EPA indicating that facilities would likely be unable to comply with the standards as written by the April 3, 2025 deadline without clarifications, corrections, or revisions.

³⁰ 89 FR at 23314; Docket ID No. EPA-HQ-OAR-2002-0083-1976, pages 194-200.

We received comments supporting the revised compliance deadlines for bell leaks stating that the EPA incorrectly assumed in the 2024 rule that “standards could be met without the need for installation of new control equipment, monitor, or measurement equipment.” ³¹ Commenters further stated that EPA's assumption was based on misunderstandings of the intermittency of emissions generated from bell leaks, how emissions from the blast furnace top are read, the causes of visible emissions, and the impact that certain work practices have on visible emissions. For the reasons discussed in the IFR, and after considering the public comments on those compliance deadline revisions, we reaffirm that the changes to compliance deadlines for work practice standards for bell leaks in the IFR are warranted, and we conclude that these provisions need no additional changes.

³¹ 90 FR at 29488.

C. Monitoring Frequency for BOPF/BF

In the July 3, 2025 IFR, the EPA revised the compliance deadline for monitoring frequency for BOPF/BF from April 3, 2025, to April 3, 2027. After promulgation of the 2024 rule, regulated entities provided information in petitions for administrative reconsideration to the EPA indicating that facilities likely would be unable to comply with this standard as written by the April 3, 2025, deadline without clarifications, corrections, or revisions.

We received comments supporting the revised compliance deadlines for monitoring frequency for BOPF/BF stating that the EPA incorrectly assumed “standards could be met without the need for installation of new control equipment, monitor, or measurement equipment.” ³² The commenters stated that the monitoring requirements in the 2024 rule present several difficulties in performing safe and accurate readings and pose substantial costs. For the reasons discussed in the IFR, and after considering the public comments on those compliance deadline revisions, we reaffirm that the changes to compliance deadlines for monitoring frequency for BOPF/BF in the IFR are warranted, and we conclude that these provisions need no additional changes.

³² 90 FR at 29488.

D. Unplanned Bleeder Valve Openings

In the July 3, 2025 IFR, the EPA revised the compliance deadline for unplanned bleeder valve openings from April 3, 2026, to April 3, 2027. When promulgating the operational limit for unplanned bleeder valve openings, we originally concluded that facilities could comply with this limit in two years, i.e., by April 3, 2026, based on the Agency's understanding that facilities only had to make relatively moderate changes in equipment or operations to comply with this standard. Those expected changes included installing stockline monitors to measure material flows in the BFs and/or material sizing equipment or screens to ensure that input material was properly sized, to help prevent unplanned openings.

However, based on additional information provided by regulated entities after the promulgation of the rule and after further discussions and analyses, the EPA now understands that, in certain cases, the equipment and work practices are insufficient or infeasible to meet the standards as currently written. Therefore, affected sources likely will need more than two years to comply with the standards as finalized.

Additionally, the EPA intended that the finalized standard would only apply to bleeder valve openings not routed to a control device. However, the EPA inadvertently finalized the standard such that it also applies to emissions from bleeder valve openings routed to a control device. This inadvertent error increases the number of unplanned bleeder valve openings that count towards the yearly operational limit, which makes the limit unachievable until a revision is made.

We received comments supporting the revised compliance deadlines for unplanned bleeder valve openings. Commenters stated that the limits on unplanned bleeder valve openings are based on a misunderstanding of which bleeder valves would be subject to the standards, the causes of unplanned bleeder valve openings, and the impacts of EPA's work practices on the number of bleeder valve openings and other furnace operations. For the reasons discussed in the IFR, and after considering the public comments on those compliance deadline revisions, we reaffirm that the changes to compliance deadlines for unplanned bleeder valve openings in the IFR are warranted, and we conclude that these provisions need no additional changes.

E. Slag Processing, Handling, and Storage

In the July 3, 2025 IFR, the EPA revised the compliance deadline for the opacity limit for slag processing, handling, and storage from April 3, 2026, to April 3, 2027. When promulgating the opacity limit for slag processing, handling, and storage, we originally concluded that facilities could comply with this limit in two years, i.e., by April 3, 2026, based on the Agency's understanding that facilities only had to make relatively moderate changes in equipment or operations to comply with those standards. Those expected changes included installing fogging and/or water spray equipment to minimize opacity for slag processing, handling, and storage operations.

However, based on additional information provided by regulated entities after promulgation of the 2024 rule and further discussions and analyses, the EPA now understands that, in certain cases, the equipment and work practices are insufficient or infeasible to meet the standards. Therefore, some affected sources likely will need more than two years to comply with the standards as finalized. For slag processing, handling, and storage, the petitions provided new data that show higher opacity concentrations than previously known by the EPA for certain specific slag processing, handling, and storage activities.

We received comments supporting the revised compliance deadlines for the opacity limit for slag processing, handling, and storage because the EPA improperly concluded that “facilities only had to make relatively moderate changes in equipment or operations to comply with those [slag processing] standards.” ³³ Commenters stated that EPA incorrectly assumed that fogging and/or water spray equipment to minimize opacity for slag processing operations would be effective and could be implemented in two years. For the reasons discussed in the IFR, and after considering the public comments on those compliance deadline revisions, we reaffirm that the changes to compliance deadlines for the opacity limit for slag processing, handling, and storage in the IFR are warranted, and we conclude that these provisions need no additional changes.

³³ 90 FR at 29488.

F. Beaching

In the July 3, 2025 IFR, the EPA revised the compliance deadline for the work practice standards for beaching from April 3, 2026, to April 3, 2027. When promulgating the work practice standards for beaching, we originally concluded that facilities could comply with this limit in two years, i.e., by April 3, 2026, based on the Agency's understanding that facilities only had to make relatively moderate changes in equipment or operations to comply with those standards. Those expected changes included installing partial enclosures or carbon dioxide (CO2) suppression to minimize fugitive emissions from beaching.

However, based on additional information provided after the promulgation of the rule and after further discussions and analyses, the EPA now understands that, in some cases, the equipment and work practices are insufficient or infeasible to meet the standards as currently written. Therefore, affected sources likely will need more than two years to comply with the standards as finalized.

We received comments supporting the revised compliance deadlines for beaching and stating that the EPA improperly concluded that “facilities only had to make relatively moderate changes in equipment or operations to comply with those [beaching] standards.” Commenters stated the conclusion was based on EPA's incorrect belief that partial enclosures or CO2 suppression minimize fugitives from beaching would be effective and could be implemented in two years. For the reasons discussed in the IFR, and after considering the public comments on those compliance deadline revisions, we reaffirm that the changes to compliance deadlines for the work practice standards for beaching in the IFR are warranted, and we conclude that these provisions need no additional changes.

G. Fenceline Monitoring

In the July 3, 2025 IFR, for consistency, even though no operational deadline applies to fenceline monitoring until an EPA-approved method is promulgated, we revised the deadline for fenceline monitoring to one year after promulgation of the test method or April 3, 2027, whichever is later. Fenceline monitoring measures emissions at the perimeter of a facility to “ensur[e] that . . . standards . . . are achieving the anticipated reductions.” ³⁴ As described above, the EPA found compelling reasons to revise compliance deadlines for certain provisions in the II&S NESHAP. It is unreasonable to monitor a facility's compliance with standards covered by the IFR that a source has not yet implemented. Thus, the EPA revised the compliance deadline for fenceline monitoring for “consistency” with the other revised standards and concludes that no additional changes are warranted. For additional comments and our responses, please see the Summary of Public Comments and Responses for the Integrated Iron and Steel Interim Final Rule in the docket for this action.

³⁴ 90 FR at 29487; see also 89 FR at 23307.

IV. Statutory and Executive Order Reviews

Additional information about these statutes and executive orders can be found at https://www.epa.gov/laws-regulations/laws-and-executive-orders.

A. Executive Order 12866: Regulatory Planning and Review and Executive Order 13563: Improving Regulation and Regulatory Review

This is a significant regulatory action under Executive Order 12866 that was submitted to the Office of Management and Budget (OMB) for review. Any changes made in response to OMB recommendations have been documented in the docket. This final action reaffirms the conclusions reached in the IFR. Because there are no changes between the IFR and this final action, the EPA notes the incremental impacts between the two actions is zero. See A Note on the Impact Analysis for the Interim Final Rule in the docket.

B. Executive Order 14192: Unleashing Prosperity Through Deregulation

This is not an Executive Order 14192 regulatory or deregulatory action because this action does not alter any regulatory requirements.

C. Paperwork Reduction Act (PRA)

This action does not impose any new information collection burden under the PRA. OMB has previously approved the information collection activities contained in the existing regulations and has assigned OMB control number 2060-0517. This action does not change the information collection requirements.

D. Regulatory Flexibility Act (RFA)

I certify that this action will not have a significant economic impact on a substantial number of small entities under the RFA. This action will not impose any requirements on small entities. Moreover, there are only eight integrated iron and steel manufacturing facilities currently operating in the United States and these plants are owned by two parent companies that do not meet the definition of small businesses, as defined by the U.S. Small Business Administration.

E. Unfunded Mandates Reform Act of 1995 (UMRA)

This action does not contain an unfunded mandate of $100 million (adjusted annually for inflation) or more (in 1995 dollars) as described in UMRA, 2 U.S.C. 1531-1538, and does not significantly or uniquely affect small governments. The action imposes no enforceable duty on any state, local or Tribal governments or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have Tribal implications as specified in Executive Order 13175. This action responds to comments on the IFR and does not make any additional changes. Thus, Executive Order 13175 does not apply to this action.

H. Executive Order 13045: Protection of Children From Environmental Health Risks and Safety Risks

Executive Order 13045 directs Federal agencies to include an evaluation of the health and safety effects of the planned regulation on children in Federal health and safety standards and explain why the regulation is preferable to potentially effective and reasonably feasible alternatives. This action is not subject to Executive Order 13045 because the EPA does not believe the environmental health or safety risks addressed by this action present a disproportionate risk to children.

I. Executive Order 13211: Actions Concerning Regulations That Significantly Affect Energy Supply, Distribution, or Use

This action is not a “significant energy action” because it is not likely to have a significant adverse effect on the supply, distribution, or use of energy.

J. National Technology Transfer and Advancement Act (NTTAA)

This action does not involve technical standards.

K. Congressional Review Act (CRA)

This action is subject to the CRA, and the EPA will submit a rule report to each House of the Congress and to the Comptroller General of the United States. This action is not a “major rule” as defined by 5 U.S.C. 804(2).

Lee Zeldin,
Administrator.

[FR Doc. 2025-21787 Filed 12-2-25; 8:45 am]

BILLING CODE 6560-50-P